DEPARTMENT OF LABOR

Employment and Training Administration

[TA-W-64,231, TA-W-64,231A]

Haas TCM Inc., Employed On-Site at Chrysler LLC, St. Louis South Assembly Plant, Fenton, MO; Haas TCM Inc., Employed On-Site at Chrysler LLC, St. Louis North Assembly Plant, Fenton, MO; Notice of Termination of Investigation

Pursuant to Section 221 of the Trade Act of 1974, as amended, an investigation was initiated on October 16, 2008, in response to a worker petition filed by workers of HAAS TCM Inc., employed on-site at Chrysler LLC, St. Louis South Assembly Plant, Fenton, Missouri (TA-W-64,231) and workers of HAAS TCM Inc., employed on-site at Chrysler LLC, St. Louis North Assembly Plant, Fenton, Missouri (TA-W-64,231A).

The petitioning group of workers is covered by an active certification at Chrysler LLC, St. Louis South Assembly Plant, Fenton, Missouri (TA-W-62,438), which expires December 14, 2009; and at Chrysler LLC, St. Louis North Assembly Plant, Fenton, Missouri (TA-W-63,052) which expires on April 14, 2010.

Consequently, further investigation in this case would serve no purpose, and the investigation has been terminated.

Signed in Washington, DC, this 18th day of November 2008.
Richard Church,
Certifying Officer, Division of Trade Adjustment Assistance.

[FR Doc. E8-29172 Filed 12-9-08; 8:45 am]

BILLING CODE 4510-FN-P